DEPARTMENT OF VETERANS AFFAIRS

Advisory Committee on Prosthetics and Special Disabilities Programs; Notice of Meeting

The Department of Veterans Affairs (VA) gives notice under Public Law 92-463 that a meeting of the Advisory Committee on Prosthetics and Special Disabilities Programs will be held April 8-9, 2003, at VA Headquarters, 810 Vermont Avenue, NW., Washington, DC. The meeting will be held in Room 430 on both days. Meeting sessions will convene at 8:30 a.m. on both days and will adjourn at 4:30 p.m. on April 8 and at 12 noon on April 9. The meeting is open to the public.

The purpose of the Committee is to advise the Department on its prosthetic programs designed to provide state-of-the-art prosthetics and the associated rehabilitation research, development, and evaluation of such technology. The Committee also advises the department on special disability programs which are defined as any program administered by the Secretary to serve veterans with spinal cord injury, blindness or vision impairment, loss of or loss of use of extremities, deafness or hearing impairment, or other serious incapacities in terms of daily life functions.

On the morning of April 8, the Committee will receive briefings by the Chief Consultant, Rehabilitation Strategic Healthcare Group, and the Director, Capital Asset Realignment for Enhanced Services (CARES) Program. In the afternoon, the Committee will be briefed by the directors of VA's special disability programs—spinal cord injury, blind rehabilitation, prosthetics, audiology and speech pathology. Additional briefing will be provided by the program directors of ophthalmology and optometry. On the morning of April 9, the Committee will be briefed by the Director of the Rehabilitation Research and Development Service and will review the most recent report on maintaining treatment capacity in VA's special disability programs.

No time will be allocated for receiving oral presentations from the public. However, members of the public may direct questions or submit written statements for review by the Committee in advance of the meeting to Ms. Cynthia Wade, Veterans Health Administration, Patient Care Services, Rehabilitation Strategic Healthcare Group (117), Department of Veterans Affairs, 810 Vermont Avenue, NW., Washington, DC 20420. Any member of the public wishing to attend the meeting should contact Ms. Wade at (202) 273-8485.

Dated: March 6, 2003.
E. Phillip Riggin,
Committee Management Officer.

[FR Doc. 03-6100 Filed 3-12-03; 8:45 am]

BILLING CODE 8320-01-M